NUCLEAR REGULATORY COMMISSION

[Docket No. 30-35321-CivP, ASLBP No. 05-836-02-CivP]

All Tech Corporation; Establishment of Atomic Safety and Licensing Board

Pursuant to delegation by the Commission dated December 29, 1972, published in the Federal Register, 37 FR 28,710 (1972), and the Commission's regulations, see 10 CFR 2.104, 2.300, 2.303, 2.309, 2.311, 2.318, and 2.321, notice is hereby given that an Atomic Safety and Licensing Board is being established to preside over the following proceeding: All Tech Corporation, Pocatello, Idaho, (Civil Monetary Penalty).

This proceeding concerns a request for hearing submitted on January 10, 2005, by All Tech Corporation in response to a December 10, 2004 NRC staff order (69 FR 76,019 (Dec. 20, 2004)), imposing a civil penalty associated with a staff investigation of All Tech Corporation activities that concluded All Tech Corporation had not conducted its activities in full compliance with NRC requirements.

The Board is comprised of the following administrative judges:

Lawrence McDade, Chair, Atomic Safety and Licensing Board Panel, U.S. Nuclear Regulatory Commission, Washington, DC 20555-0001.

E. Roy Hawkens, Atomic Safety and Licensing Board Panel, U.S. Nuclear Regulatory Commission, Washington, DC 20555-0001.

Dr. Peter S. Lam, Atomic Safety and Licensing Board Panel, U.S. Nuclear Regulatory Commission, Washington, DC 20555-0001.

All correspondence, documents, and other materials shall be filed with the administrative judges in accordance with 10 CFR 2.346(I).

Issued in Rockville, Maryland, this 2nd day of February 2005.
G. Paul Bollwerk, III,
Chief Administrative Judge, Atomic Safety and Licensing Board Panel.

[FR Doc. 05-2367 Filed 2-7-05; 8:45 am]

BILLING CODE 7590-01-P